DEPARTMENT OF AGRICULTURE

Forest Service

Notice of New Fee Site; Federal Lands Recreation Enhancement Act

AGENCY: Rogue River-Siskiyou National Forest, Forest Service, USDA.

ACTION: Notice of new recreation fees.

SUMMARY: The Rogue River-Siskiyou National Forest will be implementing new fees at four cabin/lookout rentals, six campgrounds, two group campsites, and nine day use sites. Fees are assessed based on the level of amenities and services provided, cost of operation and maintenance, market assessment, and public comment. Fee receipts will be used to improve customer services, operate and maintain facilities and to make needed improvements.

A complete list of the site fees can be found at: https://www.fs.usda.gov/detail/rogue-siskiyou/home/?cid=FSEPRD571220.

DATES: Implementation of the new fees will occur no sooner than 180 days from date of publication in the Federal Register.

Public comment for these new fee proposals was completed on February 16, 2018. The Rogue-Umpqua Resource Advisory Committee and/or the Siskiyou Resource Advisory Board reviewed and offered recommendations on these new fees on April 4, 2018 and April 25, 2018 respectively. The Region 6 Regional Forester decided to move forward with these new fees on May 22, 2018.

FOR FURTHER INFORMATION CONTACT: Brian White, Recreation, Engineering, Lands, Heritage, and Minerals Staff Officer at 541-618-2061 or email brianwhite@fs.fed.us.

SUPPLEMENTARY INFORMATION:

New fees will be implemented at the following sites:

Campgrounds:

Butler Bar, Eden Valley, Laird Lake, Little Redwood, Oak Flat/Gravel Bar, Sunshine Bar.

Depending on the site, the new recreation fee will be $8 or $10 per night.

Group Campsites:

Six Mile and Winchuck. Group camping fees will be $50 per night.

Cabins/lookouts:

Ferris Ford Cabin, Store Gulch Guard Station, and Squaw Peak Lookout. Depending on the facility, the overnight fee will be $65 to $125. The pricing difference reflects variables such as the number of people who can use the sites, and whether electricity, running water and other amenities are provided.

Day use areas/interpretive/picnic sites:

Diver's Hole, Foster Bar, Lobster Creek, Quosatana, River Bench, Six Mile, Store Gulch, Union Wayside, Natural Bridge, and Rogue Gorge. These day use sites will be $5 per day. The Northwest Forest Pass and all America the Beautiful—the National Parks and Federal Recreational Lands passes will be honored at these sites.

The Federal Recreation Lands Enhancement Act (Title VII, Pub. L. 108-447) directed the Secretary of Agriculture to publish a six month advance notice in the Federal Register whenever new recreation fee areas are established.

Dated: September 6, 2018.
Chris French,
Acting Deputy Chief, National Forest System.

[FR Doc. 2018-19966 Filed 9-13-18; 8:45 am]

BILLING CODE 3411-15-P